DEPARTMENT OF LABOR

Employment and Training Administration

[TA-W-50,482]

Black & Decker, Power Tools Division, Easton, MD; Notice of Termination of Investigation

Pursuant to section 221 of the Trade Act of 1974, as amended, an investigation was initiated on January 6, 2003 in response to a worker petition filed by a local One-Stop Operator, U.S. Workforce Investment Board, on behalf of workers at Black & Decker, Power Tools Division, Easton, Maryland.

The petitioning group of workers is covered by an active certification issued on October 10, 2002, and amended on February 13, 2003, which remains in effect (TA-W-41,976). Consequently, further investigation in this case would serve no purpose, and the investigation has been terminated.

Signed in Washington, DC, this 13th day of February 2003.
Richard Church,
Certifying Officer, Division of Trade Adjustment Assistance.

[FR Doc. 03-5545 Filed 3-7-03; 8:45 am]

BILLING CODE 4510-30-P